DEPARTMENT OF COMMERCE

International Trade Administration

[A-570-117]

Wood Mouldings and Millwork Products From the People's Republic of China: Amended Final Results of Antidumping Duty Administrative Review; 2022-2023

AGENCY: Enforcement and Compliance, International Trade Administration, Department of Commerce.

SUMMARY: The U.S. Department of Commerce (Commerce) is amending the final results of the administrative review of the antidumping duty order on wood mouldings and millwork products (WMMP) from the People's Republic of China (China) to correct a ministerial error. The period of review (POR) is February 1, 2022, through January 31, 2023.

DATES: Applicable October 24, 2024.

FOR FURTHER INFORMATION CONTACT: Brian Smith or Hannah Lee, AD/CVD Operations, Office VIII, Enforcement and Compliance, International Trade Administration, Department of Commerce, 1401 Constitution Avenue NW, Washington, DC 20230; telephone: (202) 482-1766 or (202) 482-1216, respectively.

SUPPLEMENTARY INFORMATION:

Background

On September 17, 2024, Commerce received timely submitted ministerial error allegations from the Coalition of American Millwork Producers (the petitioner) ¹ with respect to the margin calculations for Jinquan/Baiyuan,² one of the two mandatory respondents.³ No other parties submitted comments. On September 18, 2024, Commerce published the Final Results in the Federal Register.⁴ We are amending the Final Results to correct one of the petitioner's alleged ministerial errors while finding the other allegation to be methodological in nature rather than a clerical error.⁵

¹ See Petitioner's Letter, “Ministerial Error Allegations,” dated September 17, 2024 (Ministerial Error Comments).

² The full names for the companies included in this collapsed entity are Fujian Jinquan Trade Co., Ltd./Baiyuan Wood Machining Co., Ltd. (Jinquan/Baiyuan).

³ The other mandatory respondent in this administrative review is Fujian Yinfeng Imp & Exp Trading Co., Ltd./Fujian Province Youxi City Mangrove Wood Machining Co., Ltd.

⁴ See Wood Mouldings and Millwork Products from the People's Republic of China: Final Results and Partial Rescission in Part, of Antidumping Duty Administrative Review; 2022-2023, 89 FR 76452 (September 18, 2024) (Final Results), and accompanying Issues and Decision Memorandum (IDM).

⁵ See Memorandum, “Analysis of Ministerial Error Allegations,” dated concurrently with, and hereby adopted by, this notice (Ministerial Error Memorandum).

Legal Framework

Section 751(h) of the Tariff Act of 1930, as amended (the Act), defines a “ministerial error” as including “errors in addition, subtraction, or other arithmetic function, clerical errors resulting from inaccurate copying, duplication, or the like, and any other unintentional error which the administering authority considers ministerial.” ⁶ With respect to final results of administrative reviews, 19 CFR 351.224(e) provides that Commerce “will analyze any comments received and, if appropriate, correct any . . . ministerial error by amending the final results of review. . . .”

⁶ See 19 CFR 351.224(f).

Ministerial Error

In the Final Results, we stated that we recalculated the freight revenue cap for Jinquan/Baiyuan.⁷ In its Ministerial Error Comments, the petitioner alleged that while Commerce correctly calculated the freight revenue cap, Commerce incorrectly applied it to the original gross unit price by: (a) failing to remove the freight expenses from the price; and (b) incorrectly subtracting, rather than adding, the freight revenue cap to the price.⁸

⁷ See Final Results IDM at Comment 6.

⁸ See Ministerial Error Comments at 1-2.

We agree with the petitioner that we made a ministerial error pursuant to section 751(h) of the Act and 19 CFR 351.224(f). Pursuant to 19 CFR 351.224(e), we are amending the Final Results to correct this ministerial error in the calculation of the weighted-average dumping margin for Jinquan/Baiyuan. As a result, the margin changes from 4.25 percent to 4.68 percent. Furthermore, based on the revised weighted-average dumping margin calculated for Jinquan/Baiyuan, we are also amending the rate for the companies not selected for individual examination in this review, which changes from 4.25 percent to 4.68 percent.

For a complete discussion of the ministerial error allegation, as well as Commerce's analysis, see the Ministerial Error Memorandum.⁹ The Ministerial Error Memorandum is a public document and is on file electronically via ACCESS. ACCESS is available to registered users at https://access.trade.gov.

⁹ See also Memorandum, “Amended Final Results Margin Calculation for Jinquan/Baiyuan,” dated concurrently with this memorandum.

Amended Final Results of Review

As a result of correcting the ministerial error described above, we determine the following estimated amended weighted-average dumping margins for the period February 1, 2022, through January 31, 2023:

Exporters | Weighted-average dumping margin (percent)
Fujian Jinquan Trade Co., Ltd./Baiyuan Wood Machining Co., Ltd | 4.68
Non-Selected Companies Under Review Receiving a Separate Rate ¹⁰ | 4.68

Disclosure

¹⁰ See Appendix.

We intend to disclose the calculations performed in connection with these amended final results of review to interested parties within five days of the date of publication of this notice in the Federal Register, in accordance with 19 CFR 351.224(b).

Assessment Rates

Pursuant to section 751(a)(2)(C) of the Act and 19 CFR 351.212(b), Commerce has determined, and U.S. Customs and Border Protection (CBP) shall assess, antidumping duties on all appropriate entries of subject merchandise in accordance with the amended final results of review. Commerce intends to issue assessment instructions to CBP for Jinquan/Baiyuan and the non-selected companies under review receiving a separate rate no earlier than 35 days after the date of publication of the amended final results in the Federal Register. If a timely summons is filed at the U.S. Court of International Trade, the assessment instructions will direct CBP not to liquidate relevant entries until the time for parties to file a request for a statutory injunction has expired (i.e., within 90 days of publication).

Because Jinquan/Baiyuan's ad valorem weighted-average final dumping margin is not zero or de minimis (i.e., less than 0.50 percent), we have calculated importer-specific assessment rates for this respondent, in accordance with 19 CFR 351.212(b)(1).¹¹ For sales for which Jinquan/Baiyuan reported entered value, we have calculated importer-specific ad valorem assessment rates based on the ratio of the total amount of dumping calculated for each importer's examined sales to the total entered value of those sales, in accordance with 19 CFR 351.212(b)(1). For sales for which Jinquan/Baiyuan did not report entered value, we have calculated importer-specific per-unit duty assessment rates based on the ratio of the total amount of antidumping duties calculated for the examined sales to the total quantity of those sales. To determine whether an importer-specific, per-unit assessment rate is de minimis, in accordance with 19 CFR 351.106(c)(2), we also calculated an importer-specific ad valorem ratio based on estimated entered values.

¹¹ In these amended final results, Commerce applied the assessment rate calculation method adopted in Antidumping Proceedings: Calculation of the Weighted-Average Dumping Margin and Assessment Rate in Certain Antidumping Proceedings: Final Modification, 77 FR 8101 (February 14, 2012).

For entries that were not reported in the U.S. sales databases submitted by Jinquan/Baiyuan during this review, Commerce will instruct CBP to liquidate such entries at the China-wide rate (i.e., 220.87 percent).

For the respondents not selected for individual examination in this administrative review that qualified for a separate rate, the assessment rate will be equal to Jinquan/Baiyuan's amended cash deposit rate (i.e., 4.68 percent).

Cash Deposit Requirements

The following cash deposit requirements will be effective upon publication of the amended final results of this administrative review for all shipments of the subject merchandise from China entered, or withdrawn from warehouse, for consumption on or after the publication date, as provided by section 751(a)(2)(C) of the Act: for Jinquan/Baiyuan and the other companies which were found eligible for a separate rate, the cash deposit rate will be 4.68 percent.

Notification to Importers Regarding the Reimbursement of Duties

This notice also serves as a final reminder to importers of their responsibility under 19 CFR 351.402(f)(2) to file a certificate regarding the reimbursement of antidumping and/or countervailing duties prior to liquidation of the relevant entries during this POR. Failure to comply with this requirement could result in Commerce's presumption that reimbursement of antidumping and/or countervailing duties has occurred and the subsequent assessment of double antidumping duties, and/or increase in the amount of antidumping duties by the amount of the countervailing duties.

Administrative Protective Order (APO)

This notice also serves as a reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

We are issuing and publishing these amended final results of administrative review and notice in accordance with sections 751(h) and 777(i) of the Act, and 19 CFR 351.224(e).

Dated: October 18, 2024.
Ryan Majerus,
Deputy Assistant Secretary for Policy and Negotiations, performing the non-exclusive functions and duties of the Assistant Secretary for Enforcement and Compliance.

Appendix

Non-Selected Companies Under Review Receiving a Separate Rate

1. Anji Huaxin Bamboo & Wood Products Co., Ltd.

2. Composite Technology International, Limited

3. Fujian Hongjia Craft Products Co., Ltd.

4. Fujian Sanming City Donglai Wood Co., Ltd.

5. Fujian Wangbin Decorative Material Co., Ltd.

6. Fujian Youxi Best Arts & Crafts Co. Ltd.

7. Huaan Longda Wood Industry Co., Ltd.

8. Jiangsu Wenfeng Wood Co., Ltd.

9. Longquan Jiefeng Trade Co., Ltd.

10. Nanping Huatai Wood & Bamboo Co., Ltd.

11. Nicer Window Fashions Co., Ltd.

12. Putian Yihong Wood Industry Co., Ltd.

13. Qimen Jianxing Bamboo and Wood Goods Co., Ltd.

14. Rui Xing Wooden Products Co., Ltd.

15. Shandong Miting Household Co., Ltd.

16. Shaxian Hengtong Wood Industry Co., Ltd.

17. Shaxian Shiyiwood, Ltd.

18. Shuyang Kevin International Co., Ltd.

19. Sun Valley Shade Co., Ltd.

20. Suqian Sulu Import & Export Trading Co., Ltd.

21. Zhangzhou Wangjiamei Industry & Trade Co., Ltd.

22. Zhangzhou Yihong Industrial Co., Ltd.

[FR Doc. 2024-24750 Filed 10-23-24; 8:45 am]

BILLING CODE 3510-DS-P